DEPARTMENT OF AGRICULTURE

Grain Inspection, Packers and Stockyards Administration

Amended Designation for Sioux City Inspection and Weighing Service Company

AGENCY: Grain Inspection, Packers and Stockyards Administration, USDA.

ACTION: Notice.

SUMMARY: GIPSA is announcing the designation of Sioux City Inspection and Weighing Service Company (Sioux City) to provide official services under the United States Grain Standards Act (USGSA), as amended. Sioux City's geographical territory is amended to include the part of the area previously designated to Fremont Grain Inspection Department, Inc. (Fremont).

DATES: Effective Date: December 1, 2013.

ADDRESSES: Eric J. Jabs, Chief, USDA, GIPSA, FGIS, QACD, QADB, 10383 North Ambassador Drive, Kansas City, MO 64153.

FOR FURTHER INFORMATION CONTACT: Eric J. Jabs, 816-659-8408 or Eric.J.Jabs@usda.gov.

Read Applications: All applications and comments will be available for public inspection at the office above during regular business hours (7 CFR 1.27(c)).

SUPPLEMENTARY INFORMATION: In the August 20, 2013 Federal Register Notice (78 FR 51138), GIPSA requested applications for designation to provide official services in a geographic area formerly serviced by Fremont. Applications were due by September 19, 2013.

Sioux City was the sole applicant for designation to provide official services in this area. As a result, GIPSA did not ask for additional comments.

GIPSA evaluated all available information regarding the designation criteria in section 79(f) of the USGSA (7 U.S.C. 79(f)) and determined that Sioux City is qualified to provide official services in the geographic area specified in the Federal Register Notice published on August 20, 2013.

Pursuant to Section 79(f)(2) of the United States Grain Standards Act, the following amended geographic area, is assigned to Sioux City:

In Iowa

Bounded on the North by the northern Iowa State line from the Big Sioux River east to U. S. Route 169; Bounded on the East by U.S. Route 169 south to State Route 9; State Route 9 west to U.S. Route 169; U.S. Route 169 south to the northern Humboldt County line; the Humboldt County line east to State Route 17; State Route 17 south to C54; C54 east to U.S. Route 69; U.S. Route 69 south to the northern Hamilton County line; the Hamilton County line west to R38; R38 south to U.S. Route 20; U.S. Route 20 west to the eastern and southern Webster County lines to U.S. Route 169; U.S. Route 169 south to E18; E18 west to the eastern Greene County line; the Greene County line south to U.S. Route 30; Bounded on the South by U.S. Route 30 west to E53; E53 west to N44; N44 north to U.S. Route 30; U.S. Route 30 west to U.S. Route 71;U.S. Route 71 north to the southern Sac and Ida County lines; the eastern Monona County line south to State Route 37; State Route 37 west to State Route 175; State Route 175 west to the Missouri River; and Bounded on the West by the Missouri River north to the Big Sioux River; the Big Sioux River north to the northern Iowa State line.

In Minnesota

Yellow Medicine, Renville, Lincoln, Lyon, Redwood, Pipestone, Murray, Cottonwood, Rock, Nobles, Jackson, and Martin Counties.

In Nebraska

Cedar, Dakota, Dixon, Pierce (north of U.S. Route 20), and Thurston Counties.

In South Dakota

Bounded on the North by State Route 44 (U.S. 18) east to State Route 11; State Route 11 south to A54B; A54B east to the Big Sioux River; Bounded on the East by the Big Sioux River; and Bounded on the South and West by the Missouri River.

The following grain elevators are part of this geographic area assignment. In Central Iowa Grain Inspection Service, Inc.'s, area: West Central Coop, Boxholm, Boone County, Iowa. In D. R. Schaal Agency's area: Maxyield Coop, Algona, Kossuth County; Stateline Coop, Burt, Kossuth County; Gold-Eagle, Goldfield, Wright County; and North Central Coop, Holmes, Wright County, Iowa.

This designation action to provide official services in these specified areas, as amended, is effective December 1, 2013 and terminates on March 31, 2015.

Interested persons may obtain official services by contacting this agency at the following telephone number:

Official agency | Headquarters location and telephone | Amended designation start | Amended designation end
Sioux City | Sioux City, IA (712) 255-8073 | 12/1/2013 | 3/31/2015

Section 79(f) of the USGSA authorizes the Secretary to designate a qualified applicant to provide official services in a specified area after determining that the applicant is better able than any other applicant to provide such official services (7 U.S.C. 79 (f)).

Under section 79(g) of the USGSA, designations of official agencies are effective for no longer than three years unless terminated by the Secretary; however, designations may be renewed according to the criteria and procedures prescribed in section 79(f) of the USGSA.

Authority: 7 U.S.C. 71-87k.

Larry Mitchell,
Administrator, Grain Inspection, Packers and Stockyards Administration.

[FR Doc. 2014-00897 Filed 1-16-14; 8:45 am]

BILLING CODE 3410-KD-P